OFFICE OF SCIENCE AND TECHNOLOGY POLICY

Notice of Request for Information; National Plan for Civil Earth Observations

AGENCY: Office of Science and Technology Policy (OSTP).

ACTION: Notice of Request for Information (RFI).

SUMMARY: The White House Office of Science and Technology Policy (OSTP) requests public inputs to inform the development of the congressionally mandated National Plan for Civil Earth Observations (hereinafter “2023 National Plan”). This notice, which includes a draft of the 2023 National Plan, seeks information to achieve a future vision for continued United States global leadership in enabling and leveraging civil Earth Observations to increase access to Earth data, and address global changes. This notice serves as the follow-on Request for Information referenced in a Federal Register Notice titled “Notice of Upcoming Request for Information; National Plan for Civil Earth Observations”.

DATES: Interested persons and organizations are invited to submit comments on or before 5 p.m. ET, December 31, 2023 to be considered.

ADDRESSES: Due to time constraints, mailed paper submissions will not be accepted, and electronic submissions received after the deadline may not be taken into consideration.

Interested individuals and organizations should submit comments electronically via regulations.gov (Docket #: OSTP-2023-XXXX). Due to time constraints, mailed paper submissions will not be accepted, and electronic submissions received after the deadline cannot be ensured to be incorporated or taken into consideration.

Instructions: Federal eRulemaking Portal: Go to www.regulations.gov to submit your comments electronically. Information on how to use Regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this RFI.

Information obtained from this RFI may be used by the Government on a non-attribution basis for planning and strategy development. OSTP will not respond to individual submissions. A response to this RFI will not be viewed as a binding commitment to develop or pursue the project or ideas discussed. This RFI is not accepting applications for financial assistance or financial incentives.

Responses containing references, studies, research, and other empirical data that are not widely published should include copies of or electronic links to the referenced materials. Responses from minors, or responses containing profanity, vulgarity, threats, or other inappropriate language or content will not be considered.

Comments submitted in response to this notice are subject to the Freedom of Information Act (FOIA). Responses to this RFI may be posted without change online. Please note that the United States Government will not pay for response preparation, or for the use of any information contained in a response.

FOR FURTHER INFORMATION CONTACT: Ezinne Uzo-Okoro; tel: 202-456-4010.

SUPPLEMENTARY INFORMATION: Pursuant to 42 U.S.C. 6617, OSTP is soliciting public input through an RFI to obtain feedback from a wide variety of stakeholders, including individuals, industry, academia, research laboratories, nonprofits, and think tanks. OSTP is specifically interested in public input to inform the development and release of the 2023 National Plan to better leverage Earth Observations for addressing key societal challenges and trends of the coming decade. The first draft of the 2023 National Plan is included for public input.

Dated: November 16, 2023.
Stacy Murphy,
Deputy Chief Operations Officer/Security Officer.

[FR Doc. 2023-25798 Filed 11-21-23; 8:45 am]

BILLING CODE 3270-F1-P